DEPARTMENT OF DEFENSE

GENERAL SERVICES ADMINISTRATION

NATIONAL AERONAUTICS AND SPACE ADMINISTRATION

48 CFR Chapter 1

[Docket No. FAR-2024-0051, Sequence No. 6]

Federal Acquisition Regulation; Federal Acquisition Circular 2025-01; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rules appearing in Federal Acquisition Circular (FAC) 2025-01, which amends the Federal Acquisition Regulation (FAR). Interested parties may obtain further information regarding these rules by referring to FAC 2025-01, which precedes this document.

DATES: November 12, 2024.

ADDRESSES: The FAC, including the SECG, is available at https://www.regulations.gov.

FOR FURTHER INFORMATION CONTACT: For clarification of content, contact the analyst whose name appears in the table below. Please cite FAC 2025-01 and the FAR Case number. For information pertaining to status or publication schedules, contact the Regulatory Secretariat Division at 202-501-4755 or GSARegSec@gsa.gov. An asterisk (*) next to a rule indicates that a regulatory flexibility analysis has been prepared.

Rules Listed in FAC 2025-01
Item | Subject | FAR case | Analyst
*I | Prohibition on Unmanned Aircraft Systems from Covered Foreign Entities | 2024-002 | Collins.
*II | Clarification of System for Award Management Preaward Registration Requirements | 2023-018 | Collins.

SUPPLEMENTARY INFORMATION: Summaries for each FAR rule follow. For the actual revisions and/or amendments made by these FAR rules, refer to the specific item numbers and subjects set forth in the documents following these item summaries. FAC 2025-01 amends the FAR as follows:

Item I—Prohibition on Unmanned Aircraft Systems From Covered Foreign Entities (FAR Case 2024-002)

This interim rule amends the FAR to implement a prohibition on procuring, operating, or using Federal funds on, unmanned aircraft systems (e.g., drones) that are manufactured or assembled by an American Security Drone Act-covered foreign entity. This rule implements the American Security Drone Act of 2023 (subtitle B, title XVIII of the National Defense Authorization Act for Fiscal Year 2024, Pub. L. 118-31, 41 U.S.C. 3901 note prec.). This rule applies to all solicitations and contracts, including contracts at or below the micro-purchase threshold and to contracts for commercial products (including commercially available off-the-shelf items) or for commercial services. The change is not expected to have a significant economic impact on a substantial number of small entities. This interim rule is being implemented as a national security measure to protect sensitive Government information and operations.

Item II—Clarification of System for Award Management Preaward Registration Requirements (FAR Case 2023-018)

This interim rule amends the FAR to clarify System for Award Management preaward registration requirements. Offerors are required to be registered at the time of proposal submission and at time of award, rather than continuously in between. This change is expected to have a positive impact on small businesses who have a minor lapse in registration.

William F. Clark,
Director, Office of Government-wide Acquisition Policy, Office of Acquisition Policy, Office of Government-wide Policy.

[FR Doc. 2024-26065 Filed 11-8-24; 8:45 am]

BILLING CODE 6820-EP-P